DEPARTMENT OF TRANSPORTATION

National Highway Traffic Safety Administration

[Docket No. NHTSA 2018-0070]

Notice and Request for Comments

AGENCY: National Highway Traffic Safety Administration (NHTSA), Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on August 8, 2017. No comments were received.

DATES: Comments must be submitted on or before October 25, 2018.

ADDRESSES: Send comments regarding the burden estimate, including suggestions for reducing the burden, to the Office of Management and Budget, Attention: Desk Officer for the Office of the Secretary of Transportation, 725 17th Street NW, Washington, DC 20503.

FOR FURTHER INFORMATION CONTACT: Alrik L. Svenson, Office of Vehicle Safety Research, National Highway Traffic Safety Administration, U.S. Department of Transportation, 1200 New Jersey Avenue SE, Washington, DC 20590, Telephone: 202-366-0436. Please identify the relevant collection of information by referring to its OMB Control Number.

SUPPLEMENTARY INFORMATION:

Title: Field Study of Newer Generation Heavy Vehicle Automatic Emergency Braking (AEB) Systems.

OMB Control Number: Not assigned.

Type of Request: New Information Collection.

Abstract: The National Highway Traffic Safety Administration (NHTSA) is assessing the benefits of crash avoidance technologies for heavy trucks that include Automatic Emergency Braking (AEB) to prevent fatalities, injuries, and property damage in crashes involving heavy vehicles. Previous studies have investigated crash problem size, economic cost, and preliminary safety benefits concerning these systems. The underlying methods of these studies have included test track evaluations, objective test procedures, technology field demonstrations, and “naturalistic” studies. As both of the major AEB system suppliers have released new products in the second half of 2017, NHTSA is interested in the real world performance of these new systems, which are designed to address the shortcomings of the previous generation of AEB systems. These systems have been designed to offer improved threat detection and new features such as stationary object braking. Additionally, a new product called Detroit Assurance™ was released in 2016 for Freightliner trucks by Detroit Diesel Corporation. This system shares many features with the OnGuard and Wingman® products including advanced emergency braking (AEB), forward collision warnings (FCW), and adaptive cruise control (ACC).

Affected Public: Commercial vehicle drivers who are assigned a single, specific commercial vehicle that is equipped with the eligible technologies. Trucking fleets (approximately 7-10) will be contacted first to see if they have trucks equipped with the technologies and would be willing to have their drivers participate in the study.

Estimated Number of Respondents: 175, after compensating for potential drop-outs.

Frequency: Twice at the start of participation (demographic and initial CAS technology surveys), once at the completion of participation approximately 3 months later.

Number of Responses: Full participation in the study will include 3 responses for a total of 92 questions per participant, plus a consent form that will be reviewed prior to participation.

Estimated Total Annual Burden Hours: 110 minutes per respondent, including consent (204 hours total).

Estimated Total Annual Burden Cost:

Table 1—Estimated Total Annual Burden Cost
Instrument | Number of respondents ¹ | Frequency of responses | Number of questions | Estimated individual burden (minutes) | Total estimated burden hours (hours) | Total annualize cost to respondents ²
Informed Consent Form | 175 | 1 | N/A | 10 | 29 | $584.64
Demographic questionnaire | 175 | 1 | 14 | 10 | 29 | 584.64
Initial CAS Technology Survey | 175 | 1 | 33 | 25 | 73 | 1471.68
Final CAS Technology Survey | 150 | 1 | 34 | 25 | 62.5 | 1260.00
TOTAL |  |  |  |  | 193.5 | $ 3900.96
¹ The number of respondents in this table includes drop-out rates.
² Estimated based on the mean hourly rate nationwide for Heavy and Tractor-Trailer Truck Drivers of $20.16 as reported in the May 2014 Occupational Employment and Wage Estimates, Bureau of Labor Statistics. http://www.bls.gov/oes/current/oes_nat.htm#35-0000.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; and 49 CFR 1:48.

Nathaniel Beuse,
Associate Administrator, Vehicle Safety Research.

[FR Doc. 2018-20753 Filed 9-24-18; 8:45 am]

BILLING CODE 4910-59-P